DEPARTMENT OF THE INTERIOR

Fish and Wildlife Service

[FWS-R9-IA-2011-0087; 96300-1671-0000 FY12 R4]

Conference of the Parties to the Convention on International Trade in Endangered Species of Wild Fauna and Flora (CITES); Sixteenth Regular Meeting: Proposed Resolutions, Decisions, and Agenda Items Being Considered; Observer Information

AGENCY: Fish and Wildlife Service, Interior.

ACTION: Notice.

SUMMARY: The United States, as a Party to the Convention on International Trade in Endangered Species of Wild Fauna and Flora (CITES), may submit proposed resolutions, decisions, and agenda items for consideration at meetings of the Conference of the Parties to CITES. The United States may also propose amendments to the CITES Appendices for consideration at meetings of the Conference of the Parties. The sixteenth regular meeting of the Conference of the Parties to CITES (CoP16) is scheduled to be held in Bangkok, Thailand, March 3-15, 2013. With this notice, we describe proposed resolutions, decisions, and agenda items that the United States is considering submitting for consideration at CoP16; invite your comments and information on these proposals; and provide information on how non-governmental organizations based in the United States can attend CoP16 as observers.

DATES: We will consider written information and comments you submit concerning proposed resolutions, decisions, and agenda items that the United States is considering submitting for consideration at CoP16, if we receive them by August 20, 2012.

ADDRESSES: You may submit comments pertaining to proposed resolutions, decisions, and agenda items for discussion at CoP16 by one of the following methods:

• Federal eRulemaking Portal: http://www.regulations.gov. Follow the instructions for submitting comments on Docket No. FWS-R9-IA-2011-0087.

• U.S. mail or hand-delivery: Public Comments Processing, Attn: FWS-R9-IA-2011-0087; Division of Policy and Directives Management; U.S. Fish and Wildlife Service; 4401 N. Fairfax Drive, MS 2042-PDM; Arlington, VA 22203.

We will not consider comments sent by email or fax, or to an address not listed in the ADDRESSES section. Comments and materials we receive in response to this notice will be posted for public inspection on http://www.regulations.gov, and will be available by appointment, between 8:00 a.m. and 4:00 p.m., Monday through Friday, except Federal holidays, at the U.S. Fish and Wildlife Service, Division of Management Authority, 4401 N. Fairfax Drive, Room 212, Arlington, VA 22203; telephone 703-358-2095.

Requests for approval to attend CoP16 as an observer should be sent to the Division of Management Authority, U.S. Fish and Wildlife Service, 4401 North Fairfax Drive, Room 212, Arlington, VA 22203, or via email at: managementauthority@fws.gov, or via fax at: 703-358-2298.

For the latest news and information regarding U.S. preparations for CoP16, please visit our Web site at http://www.fws.gov/international/CITES/CoP16.html.

FOR FURTHER INFORMATION CONTACT: For information pertaining to resolutions, decisions, and agenda items, contact: Robert R. Gabel, Chief, Division of Management Authority; telephone 703-358-2095; facsimile 703-358-2298. For information pertaining to species proposals contact: Rosemarie Gnam, Chief, Division of Scientific Authority; telephone 703-358-1708; facsimile 703-358-2276. If you use a telecommunications device for the deaf (TDD), call the Federal Information Relay Service (FIRS) at 800-877-8339.

SUPPLEMENTARY INFORMATION:

Background

The Convention on International Trade in Endangered Species of Wild Fauna and Flora, hereinafter referred to as CITES or the Convention, is an international treaty designed to control and regulate international trade in certain animal and plant species that are now or potentially may become threatened with extinction. These species are listed in Appendices to CITES, which are available on the CITES Secretariat's Web site at http://www.cites.org/eng/app/index.php. Currently, 175 countries, including the United States, are Parties to CITES. The Convention calls for regular biennial meetings of the Conference of the Parties, unless the Conference of the Parties decides otherwise. At these meetings, the Parties review the implementation of CITES, make provisions enabling the CITES Secretariat in Switzerland to carry out its functions, consider amendments to the lists of species in Appendices I and II, consider reports presented by the Secretariat, and make recommendations for the improved effectiveness of CITES. Any country that is a Party to CITES may propose amendments to Appendices I and II, resolutions, decisions, and agenda items for consideration by all the Parties at the meetings.

This is our fourth in a series of Federal Register notices that, together with an announced public meeting, provide you with an opportunity to participate in the development of the U.S. submissions to and negotiating positions for the sixteenth regular meeting of the Conference of the Parties to CITES (CoP16). We published our first CoP16-related Federal Register notice on June 14, 2011 (76 FR 34746), in which we requested information and recommendations on species proposals for the United States to consider submitting for consideration at CoP16, and described our approach in determining which species proposals to consider submitting. We published our second such Federal Register notice on November 7, 2011 (76 FR 68778), in which we requested information and recommendations on proposed resolutions, decisions, and agenda items for the United States to consider submitting for consideration at CoP16, described our approach in determining which proposed resolutions, decisions, and agenda items to consider submitting, and provided preliminary information on how to request approved observer status for non-governmental organizations that wish to attend the meeting. In our third CoP16-related Federal Register notice, published on April 11, 2012 (77 FR 21798), we requested public comments and information on species proposals that the United States is considering submitting for consideration at CoP16. A complete list of those Federal Register notices, along with information on U.S. preparations for CoP16, can be found at http://www.fws.gov/international/CITES/CoP16.html. You may obtain additional information on those Federal Register notices from the following sources: For information on proposed resolutions, decisions, and agenda items, contact the Division of Management Authority at the address provided in the ADDRESSES section; and for information on species proposals, contact the Division of Scientific Authority, U.S. Fish and Wildlife Service, 4401 N. Fairfax Drive, Room 110, Arlington, VA 22203. Our regulations governing this public process are found in 50 CFR 23.87.

Recommendations for Resolutions, Decisions, and Agenda Items for the United States To Consider Submitting for CoP16

In our Federal Register notice published on November 7, 2011 (76 FR 68778), we requested information and recommendations on potential resolutions, decisions, and agenda items for the United States to submit for consideration at CoP16. We received information and recommendations from the following organizations: The Animal Welfare Institute; Gruhn Guitars, Inc.; the International Fund for Animal Welfare; NAMM (the International Music Products Association); the Natural Science Collections Alliance; the Ornithological Council and the Society for the Preservation of Natural History Collections; Safari Club International and the Safari Club International Foundation; the Species Survival Network; the Species Survival Network's Amphibian Working Group; and the World Wildlife Fund. We also received comments from three individuals.

We considered all of the recommendations of the above individuals and organizations, as well as the factors described in the U.S. approach for CoP16 discussed in our November 7, 2011, Federal Register notice, when compiling a list of resolutions, decisions, and agenda items that the United States is likely to submit for consideration by the Parties at CoP16. We also compiled lists of resolutions, decisions, and agenda items for consideration at CoP16 that the United States either is currently undecided about submitting, is not considering submitting at this time, or plans to address in other ways. In compiling these lists, we also considered potential submissions that we developed internally. The United States may consider submitting documents for some of the issues for which it is currently undecided or not considering submitting at this time, depending on the outcome of discussions of these issues in the CITES Standing Committee, additional consultations with range country governments and subject matter experts, or comments we receive during the public comment period for this notice.

Please note that, in sections A, B, and C below, we have listed those resolutions, decisions, and agenda items that the United States is likely to submit, currently undecided about submitting, or currently planning not to submit. We have posted an extended version of this notice on our Web site at http://www.fws.gov/international/CITES/CoP16.html and at http://www.regulations.gov, with text describing in more detail each of these issues and explaining the rationale for the tentative U.S. position on each issue. Copies of the extended version of the notice are also available from the Division of Management Authority at the address in the ADDRESSES section.

We welcome your comments and information regarding the resolutions, decisions, and agenda items that the United States is likely to submit, currently undecided about submitting, or currently planning not to submit.

A. What resolutions, decisions, and agenda items is the United States likely to submit for consideration at CoP16?

1. Quota information on CITES permits and tags for leopard trophies: Proposal we developed internally to revise Resolution Conf. 10.14 (Rev. CoP14), Quotas for leopard trophies and skins for personal use, and Resolution Conf. 12.3 (Rev. CoP15), Permits and certificates, to make them consistent with respect to what quota/quantity information should be included on a leopard trophy tag and on the accompanying CITES permit.

2. Retrospective permit process for certain Appendix-I specimens: Proposal we developed internally to revise Resolution Conf. 12.3 (Rev. CoP15), Permits and certificates, to include a retrospective permit process for certain Appendix-I specimens with high conservation value.

3. Streamlined process for cross-border transport of musical instruments containing CITES species: Proposal for a passport system for individuals travelling internationally with their musical instruments.

B. On what resolutions, decisions, and agenda items is the United States still undecided, pending additional information and consultations?

1. CoP Rules of Procedure: Voting records: Proposal to revise the Rules of Procedure for meetings of the CoP to require that, except in the case of a vote on a proposal by a secret ballot, electronic votes be displayed to all CoP participants within minutes of the vote and the Presiding Officer not announce the results of the vote until votes are displayed and Parties have had time to verify them.

2. CoP Rules of Procedure: Secret ballots: Competing proposals regarding whether to revise the Rules of Procedure for CoPs, aligning them with those of other United Nations bodies to allow a secret ballot vote only when the motion for the vote has been approved by a majority of Parties present and voting (rather than by merely 10 Parties as is currently the requirement in the CoP Rules of Procedure).

3. Climate change: Proposal for a resolution on climate change that would allow for increased recognition of climate change and its impacts or potential impacts on CITES-listed species.

4. National CITES laws made available on the web: Proposal for a resolution or decision calling on the Secretariat to post all Party CITES implementing laws on the CITES Web site.

5. CITES purpose codes: Comment supporting the position that purpose codes should be used primarily to indicate whether the trade covered by a particular permit is for commercial or noncommercial purposes, while allowing for the use of purpose codes to gather useful analytical information (such as the number and variety of hunting trophies being shipped); also supporting the position that purpose codes are not to be used as enforcement tools unless this is accompanied by a willingness to resolve issues with coding between Management Authorities and not putting the burden on the shippers in the absence of evidence of fraudulent intent.

6. Equipment needs of Parties: Proposal for a resolution or decision to authorize the development of a mechanism to identify equipment needs of the CITES Parties for the effective enforcement of the Convention, while allowing CITES observers and other interested organizations and agencies an opportunity to try to meet those Party needs.

7. Review of Significant Trade: Proposal to amend the Terms of Reference for the evaluation of the Review of Significant Trade to include assessment of the “measures to be taken regarding the implementation of recommendations” contained in Resolution Conf. 12.8 (Rev. CoP13), Review of Significant Trade in specimens of Appendix-II species.

8. Non-detriment findings: (a) Proposal for a resolution to substantively improve and strengthen the non-detriment finding (NDF) requirements; (b) comment supporting the CITES NDF Working Group, a joint working group of the Animals and Plants Committees, and the fact that the Working Group is currently considering a draft resolution on NDFs for CoP16, and recommending that the United States lend its support to the process to ensure that such a resolution is adopted at CoP16; and (c) proposal for the development of guidance for making NDFs, provided that such guidance is not mandatory, does not suggest “pass or fail” criteria for permit issuance based on such findings, and is accompanied by a mechanism to assess range States' needs for capacity-building to improve NDFs and to provide such capacity-building assistance.

9. Captive-bred and ranched specimens: Proposal for a decision to continue the intersessional Working Group on Implementation of the Convention Relating to Captive-bred and Ranched Specimens and a decision directing that the Working Group study problems with the use of CITES source codes by selecting species and Parties to be addressed as case studies.

10. Definitions of sawn wood and veneer for Appendix-II and -III timber: Proposal that CITES develop clearer definitions of the terms “sawn wood” and “veneer,” which appear in the annotations for a number of timber species listed in Appendices II and III.

11. Trade in hunting trophies of Appendix-I species: Proposal for revisions to relevant resolutions to: (a) incorporate criteria that must be met before quotas for Appendix-I species are approved; (b) require that such quotas be reviewed and renewed at each CoP; (c) require that quotas in place be regularly monitored to ensure that the basis for assigning them remains valid; and (d) remove the presumptions placed on the importing country that quotas may be accepted as appropriate in the absence of direct evidence to the contrary.

12. Hunting trophy personal effects: Comment supporting the view that hunting trophies that include manufactured items crafted from animals taken by hunters are by their very nature personal effects and qualify for the CITES personal effects and household effects exemption, and supporting revising Resolution Conf. 13.7 (Rev. CoP14), Control of trade in personal and household effects, to remove the requirement that a hunting trophy must be carried by the hunter as accompanying baggage in order to qualify as a personal effect.

13. Asian big cats: Proposal for several actions to strengthen enforcement of CITES with regard to Appendix-I Asian big cat species.

14. Tiger farming and domestic trade: Recommendation that the United States call for the full implementation of the spirit and letter of Decision 14.69, directing Parties with operations breeding tigers on a commercial scale to implement measures to restrict the captive population to a level supportive only of conserving wild tigers, and proposal to revise Resolution Conf. 12.5 (Rev. CoP15) to support the Standing Committee call for “such measures as are required to halt the illegal trade in tigers and tiger parts and derivatives.”

15. Illegal trade in specimens of Appendix-I bear species: Proposal to revise Resolution Conf. 10.8 (Rev. CoP14), Conservation of and trade in bears, and/or submit decisions to establish a process by which range and consumer States that are identified in the new report of TRAFFIC Southeast Asia on illegal trade in Asian bear species as being involved in illegal trade in Appendix-I bear species must report to the Standing Committee on progress made to address the problems identified in the report.

16. Rhinoceroses: Enforcement pertaining to trade in products: Comment supporting strict enforcement of CITES controls on trade in rhinoceros products, without unnecessary limitations on the legitimate hunting of rhinoceroses.

17. Rhinoceroses: Export of horn for commercial purposes: Recommendation that the United States take all action within its power to carefully scrutinize trade in rhinoceros parts to ensure that parts originating in the United States do not enter Traditional Chinese Medicine markets in East Asia and that the United States make recommendations to the Standing Committee and to CoP16 that all CITES Parties take similar action.

18. Rhinoceroses: Definition of “appropriate and acceptable” in the annotation to the Appendix-II listing of the South African population of the white rhinoceros: Proposal for adding a safeguard in the annotation to the Appendix-II listing of the South African population of the white rhinoceros (Ceratotherium simum simum) to ensure that, if exports of live rhinoceroses from any Party are to be authorized in the future, they should be exclusively to in-situ conservation programs.

19. Reporting on rhinoceros issues (Resolution Conf. 9.14 (Rev. CoP15)): Proposal that all CITES Parties include the following information in the data they provide for the annual reports by IUCN/TRAFFIC as requested in Resolution Conf. 9.14 (Rev. CoP15), Conservation of and trade in African and Asian rhinoceroses: The locations, domestic transfer, and the births and deaths of all live rhinoceroses that have been subject to international trade.

20. Pangolins: Proposal for a decision and resolution recommending a number of actions to strengthen enforcement of CITES with regard to Asian pangolins.

21. Elephants: Panel of Experts: Proposal for a revision of Resolution Conf. 10.9, Consideration of proposals for the transfer of African elephant populations from Appendix I to Appendix II, to establish a standing Panel of Experts to ensure that the Panel can be convened and deployed in a timely fashion as soon as a proposal to transfer a population of the African elephant from Appendix I to Appendix II is received by the Secretariat, and to include a deadline for the Secretariat to forward submitted proposals to the Panel.

22. Elephants: Ivory-trading partners: Proposal to recommend a regular comprehensive review of the status of all CITES-approved ivory-trading partners by an independent consultant in order to determine whether there is a need for their trading partner status to be amended or revoked, and recommending that trading partner status should not exceed a defined period of time.

23. Monitoring the Illegal Killing of Elephants (MIKE): Proposal to direct the Standing Committee to: Commission a full independent review of MIKE; develop recommendations on the future and improvement of MIKE; and develop recommendations to ensure regular monitoring of the MIKE program by the Standing Committee.

C. What resolutions, decisions, and agenda items is the United States not likely to submit for consideration at CoP16, unless we receive significant additional information?

1. Streamlined process for trade in pre-CITES, pre-ESA, and pre-Lacey Act specimens: Proposal that businesses engaged in trade in parts and derivatives of species listed under CITES, the Endangered Species Act (ESA), or the Lacey Act be licensed and that trade in pre-CITES, pre-ESA, and pre-Lacey Act parts and derivatives be allowed with a simple declaration of this on the commercial invoice (no permit), and that all personal items in international trade receive an automatic exemption from CITES, ESA, and Lacey Act.

2. Financing and budgeting of the Secretariat: Proposal that, when reporting on its expenditures and on its projected Costed Program of Work, the Secretariat report on costs per project and method of implementation, provide a separate chart on staff costs to allow Parties to better evaluate work priorities for Secretariat staff, provide a list of meetings attended by Secretariat staff and associated costs, and provide feedback on which activities/methods of implementation have been completed and whether core and high-priority activities have received precedence over medium- and low-priority activities. The proposal also addresses the creation of regular financial auditing procedures of the Secretariat and the submission of auditing reports to the Standing Committee.

3. Increased transparency within the Secretariat: Proposal for a resolution mandating that the Secretariat make available all communications, correspondence, and other documents to all Parties and observers in order to improve the transparency of the Secretariat.

4. Human population growth and wildlife trade: Proposal for a resolution linking human population growth to impacts to wildlife and wildlife trade, to encourage countries to consider human population growth and potential efforts to reduce growth rates in their broader planning efforts, to ensure that these impacts are considered when countries are preparing NDFs and export quotas, and when making other decisions required by CITES.

5. Evaluating enforcement capacity: Proposal for a document and decision to facilitate increased CITES enforcement capacity of the Parties.

6. Reporting against new indicators of effective enforcement: Proposal that Parties reporting to the Standing Committee and the CoP under species-specific resolutions and decisions be required to provide evidence that the following is taking place: Proactive, covert, intelligence-led operations that build up a profile of wildlife criminals and their associations and networks; generation of the right kind of intelligence to enable the mapping of such associations and networks; multiagency and transnational sharing of intelligence through swift and secure means; development of national and transnational operations on the basis of intelligence; use of controlled deliveries as an evidence-gathering tool to disrupt networks; recovery of assets from wildlife crime through the use of proceeds of crime legislation; and increased detection and prosecution rates.

7. Gathering and analysis of data on illegal trade: Proposal that the reporting of illegal trade data should become a matter of compliance and that Parties provide their data to INTERPOL's Environmental Crime Programme, where it can be securely accessed by enforcement officers from all CITES Parties.

8. Enforcement matters: Controlled deliveries expertise: Recommendation that the United States take the lead among Parties to lend momentum to the International Consortium on Combating Wildlife Crime's ongoing work on controlled deliveries as a method of reaching the “big players” in wildlife trafficking.

9. Elevating the profile of wildlife crime: Proposal for a resolution recognizing wildlife crime as a “serious” crime, whereby Parties agree to change their CITES-implementing legislation as necessary to provide for the maximum deterrent.

10. Multilateral measures in CITES: Comment supporting the use of the various multilateral measures that are available within CITES to deal with concerns about permit issuance and trade, and opposing the use of “stricter domestic measures.”

11. Uniform application of CITES: Proposal that the CoP urge Parties to refrain from imposing greater restrictions on international wildlife trade than those required under CITES.

12. Livelihoods: Recommendation that the United States support the review of the effects of CITES on livelihoods, specifically with regard to the benefits of sustainable use of CITES species to local communities.

13. Measurements and units used in reporting: Proposal for a resolution describing in detail the volume- or weight-based measurements needed for each CITES description of specimens in order to comply with the Guidelines for the Preparation and Submission of CITES Annual Reports, and recommending that Parties report trade using two units of measurement when possible.

14. An alternative to CITES: Proposal for a document soliciting discussion of the possibility of either substantively revising CITES or replacing it with a new Convention that would prohibit international trade in all species except for those designated as capable of sustaining regulated trade.

15. Streamlining the Review of Significant Trade process: Proposal for a resolution to restructure the Review of Significant Trade process to make it more streamlined and expeditious and also to include an automatic recommendation for a suspension of trade in species under review from those countries going through the review.

16. Periodic Review of the Appendices, Lions: Recommendation that the United States support the inclusion of the African lion (Panthera leo) in the Periodic Review of Felidae.

17. Definition of hunting trophy: Proposal for a document explaining the implementation and enforcement problems created by including processed and manufactured products and the term “readily recognizable” in the definition of “hunting trophy” included in Resolution Conf. 12.3 (Rev. CoP15), Permits and certificates, and proposal for the deletion of processed and manufactured products from the definition and replacement of the term “readily recognizable” with the term “identifiable.”

18. Validation of permits for trade in scientific research materials: Proposal for a document aimed at improving the permit validation process for CITES scientific specimens.

19. Unlisted species: Proposal for a mechanism to select and review unlisted species subject to significant levels of international trade for possible listing in the CITES Appendices.

20. Newly discovered species: Proposal for a resolution that would automatically prohibit trade in a newly-discovered species until the status of the species could be properly assessed and a determination made as to whether the species requires protection under CITES.

21. U.S. captive tigers: Recommendation that the United States report at CoP16 on the status of its captive tiger population, including information about recently promulgated regulations requiring all persons and facilities holding tigers in the United States to annually report their year-end inventories and activities conducted with tigers and removing the current exemption for “generic” tigers.

22. Bear bile trade: Proposal for a resolution that would reduce the cruel confinement of bears for the bear bile trade by imposing requirements that bears be farmed only if there is a legitimate conservation benefit to wild populations.

23. Creation of artificial ice floes for polar bears: Comment supporting the creation of artificial ice floes that would provide polar bears with places to rest and recuperate as they migrate to the sea ice.

24. Rhinoceroses: Annotation to the Appendix-II listing of the populations of South Africa and Swaziland of the southern white rhinoceros: Recommendation that the United States approach South Africa and request that they impose a unilateral suspension on export of both live rhinoceroses and rhinoceros hunting trophies (the specimen types from South Africa downlisted to Appendix II in the annotation).

25. Elephant ivory trade mechanism: Comment supporting the vigorous development of an apolitical mechanism for approving trade in elephant ivory.

26. Elephants: Broadening of the debate beyond the issue of allowing legal ivory trade: Recommendation that the United States lend its weight to broadening the debate concerning elephants beyond the issue of allowing legal ivory trade, which while important, should be seen in a wider context of other problems that are currently more significant in driving poaching and illegal trade.

27. Sharks, rays, and skates (elasmobranchs): Proposal for a decision directing the Secretariat to contract appropriate technical experts to prepare a report to determine the most vulnerable elasmobranch species found in international trade in order to determine which species would most benefit from CITES listings.

28. Amphibians: Proposal for a document for CoP16 requesting that range States initiate better monitoring and management of wild frog populations.

Request for Information and Comments

We invite any information and comments concerning any of the possible CoP16 proposed resolutions, decisions, and agenda items discussed above. You must submit your information and comments to us no later than the date specified in DATES above to ensure that we consider them. Comments and materials received will be posted for public inspection on http://www.regulations.gov, and will be available by appointment, from 8:00 a.m. to 4:00 p.m., Monday through Friday, at the Division of Management Authority. Our practice is to post all comments, including names and addresses of respondents, and to make comments, including names and home addresses of respondents, available for public review during regular business hours. Individual respondents may request that we withhold their home addresses from public review, which we will honor to the extent allowable by law.

There also may be circumstances in which we would withhold from public review a respondent's identity, as allowable by law. If you wish for us to withhold your name and/or address, you must state this prominently at the beginning of your comment. We will make all comments and materials submitted by organizations or businesses, and by individuals identifying themselves as representatives or officials of organizations or businesses, available for public inspection in their entirety.

Observers

Article XI, paragraph 7 of CITES states the following:

“Any body or agency technically qualified in protection, conservation or management of wild fauna and flora, in the following categories, which has informed the Secretariat of its desire to be represented at meetings of the Conference by observers, shall be admitted unless at least one-third of the Parties present object:

(a) international agencies or bodies, either governmental or non-governmental, and national governmental agencies and bodies; and

(b) national non-governmental agencies or bodies which have been approved for this purpose by the State in which they are located.

Once admitted, these observers shall have the right to participate but not to vote.”

Persons wishing to be observers representing international non-governmental organizations (which must have offices in more than one country) at CoP16 may request approval directly from the CITES Secretariat. Persons wishing to be observers representing U.S. national non-governmental organizations at CoP16 must receive prior approval from our Division of Management Authority. Once we grant our approval, a U.S. national non-governmental organization is eligible to register with the Secretariat and must do so at least 6 weeks prior to the opening of CoP16 to participate in CoP16 as an observer. Individuals who are not affiliated with an organization may not register as observers. An international non-governmental organization with at least one office in the United States may register as a U.S. non-governmental organization if it prefers.

Any organization that submits a request to us for approval as an observer should include evidence of their technical qualifications in protection, conservation, or management of wild fauna or flora, for both the organization and the individual representative(s). The request should include copies of the organization's charter and any bylaws, and a list of representatives it intends to send to CoP16. Organizations seeking approval for the first time should detail their experience in the protection, conservation, or management of wild fauna or flora, as well as their purposes for wishing to participate in CoP16 as an observer. An organization that we have previously approved as an observer at a meeting of the Conference of the Parties within the past 5 years must submit a request, but does not need to provide as much detailed information concerning its qualifications as an organization seeking approval for the first time. These requests should be sent to the Division of Management Authority at the address provided in the ADDRESSES section, or via email at: managementauthority@fws.gov, or via fax at: 703-358-2298.

Once we approve an organization as an observer, we will inform them of the appropriate page on the CITES Web site where they may obtain instructions for registration with the CITES Secretariat in Switzerland, including a meeting registration form and travel and hotel information. A list of organizations approved for observer status at CoP16 will be available upon request from the Division of Management Authority just prior to the start of CoP16.

Future Actions

We expect the CITES Secretariat to provide us with a provisional agenda for CoP16 within the next several months. Once we receive the provisional agenda, we will publish it in a Federal Register notice and provide the Secretariat's Web site URL. We will also provide the provisional agenda on our Web site at http://www.fws.gov/international/CITES/CoP16.html.

The United States will submit any proposed resolutions, decisions, and agenda items, as well as any species proposals, for consideration at CoP16 to the CITES Secretariat 150 days prior to the start of the meeting (i.e., by October 4, 2012). We will consider all available information and comments received during the comment period for this notice as we decide which proposed resolutions, decisions, and agenda items warrant submission by the United States for consideration by the Parties. With respect to our notice published on April 11, 2012 (77 FR 21798), we will consider all available information and comments received during the comment period for that notice as we decide which species proposals warrant submission by the United States for consideration by the Parties. Approximately 4 months prior to CoP16, we will post on our Web site an announcement of the species proposals and proposed resolutions, decisions, and agenda items submitted by the United States to the CITES Secretariat for consideration at CoP16.

Through an additional notice and Web site posting in advance of CoP16, we will inform you about preliminary negotiating positions on resolutions, decisions, agenda items, and amendments to the Appendices proposed by other Parties for consideration at CoP16. We will also publish an announcement of a public meeting tentatively to be held approximately 2-3 months prior to CoP16, to receive public input on our positions regarding issues on the agenda for CoP16. The procedures for developing U.S. documents and negotiating positions for a meeting of the Conference of the Parties to CITES are outlined in 50 CFR 23.87. As noted in paragraph (c) of that section, we may modify or suspend the procedures outlined there if they would interfere with the timely or appropriate development of documents for submission to the meeting of the Conference of the Parties and of U.S. negotiating positions.

Author: The primary author of this notice is Mark Albert, Division of Management Authority; under the authority of the U.S. Endangered Species Act of 1973, as amended (16 U.S.C. 1531 et seq.).

Date: June 8, 2012.
Daniel M. Ashe,
Director.

[FR Doc. 2012-15121 Filed 6-20-12; 8:45 am]

BILLING CODE 4310-55-P